INTERNATIONAL TRADE COMMISSION

[Investigation No. 337-TA-1345]

Certain Automated Retractable Vehicle Steps and Components Thereof; Notice of a Commission Determination Not To Review an Initial Determination Granting a Motion To Amend the Complaint and Notice of Investigation

AGENCY: U.S. International Trade Commission.

ACTION: Notice.

SUMMARY: Notice is hereby given that the U.S. International Trade Commission (“Commission”) has determined not to review an initial determination (“ID”) (Order No. 14) of the presiding administrative law judge (“ALJ”), granting an unopposed motion to amend the complaint and notice of investigation to add Anhui Wollin International Co., Ltd. (“Wollin”) and Wuhu Wow-good Auto-tech Co. Ltd. (“Wow-good”) as named respondents.

FOR FURTHER INFORMATION CONTACT: Benjamin S. Richards, Esq., Office of the General Counsel, U.S. International Trade Commission, 500 E Street SW, Washington, DC 20436, telephone (202) 708-5453. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal on (202) 205-1810.

SUPPLEMENTARY INFORMATION: The Commission instituted this investigation on December 6, 2022. 87 FR 74661 (Dec. 6, 2022). The complaint, as supplemented, alleges violations of section 337 of the Tariff Act of 1930, as amended, 19 U.S.C. 1337, in the importation into the United States, the sale for importation, or the sale within the United States after importation of certain automated retractable vehicle steps and components thereof by reason of infringement of certain claims of U.S. Patent No. 9,272,667; U.S. Patent No. 9,527,449; U.S. Patent No. 9,511,717; and U.S. Patent No. 11,198,395. Id. The Commission's notice of investigation named as respondents Anhui Aggeus Auto-Tech Co., Ltd. (“Aggeus”) a/k/a Wuhu, Woden Auto Parts Co., Ltd. a/k/a Wuhu Wow-good, Auto-Tech Co. Ltd. a/k/a Anhui Wollin International Co., Ltd. of Wuhu, China; Rough Country LLC of Dyersburg, TN; Southern Truck of Swanton, OH; Meyer Distributing, Inc. of Jasper, IN; and Earl Owen Company, Inc. of Carrollton, TX. Id. at 74662. The complainant is Lund Motion Products, Inc. of Brea, CA (“Lund”). Id. The Office of Unfair Import Investigations is participating in the investigation. Id.

On February 23, 2023, the ALJ issued the subject ID, which granted Lund's unopposed motion to amend the complaint and notice of investigation to add Wollin and Wow-good as named respondents. The ID explained that Wollin and Wow-good were previously identified as aliases of respondent Aggeus and that Lund's motion is unopposed. No petitions for review of the ID were filed.

The Commission has determined not to review the subject ID. The complaint and notice of investigation are hereby amended to identify Wollin and Wow-good as distinct respondents independent of Aggeus.

The Commission vote for this determination took place on March 23, 2023.

The authority for the Commission's determination is contained in section 337 of the Tariff Act of 1930, as amended (19 U.S.C. 1337), and in Part 210 of the Commission's Rules of Practice and Procedure (19 CFR part 210).

By order of the Commission.
Issued: March 23, 2023.
Lisa R. Barton,
Secretary to the Commission.

[FR Doc. 2023-06397 Filed 3-27-23; 8:45 am]

BILLING CODE 7020-02-P